DEPARTMENT OF LABOR

Employment and Training Administration

[TA-W-59,883, TA-W-59,883A, TA-W-59,883B]

MacDonald's Industrial Products Including On-Site Leased Workers of Spherion Corporation Including Workers Whose Wages Were Paid by Access Personnel Options, Spencerville, OH; MacDonald's Industrial Products Including On-Site Leased Workers of Forge Industrial Staffing Including Workers Whose Wages Were Paid by Access Personnel Options, Kentwood, MI; MacDonald's Industrial Products Including On-Site Leased Workers of Forge Industrial Staffing Including Workers Whose Wages Were Paid by Access Personnel Options; Grand Rapids, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 31, 2006, applicable to workers of MacDonald's Industrial Products, including on-site leased workers of Spherion Corporation, Spencerville, Ohio, MacDonald's Industrial Products, including on-site leased workers of Forge Industrial Staffing, Kentwood, Michigan and MacDonald's Industrial Products, including on-site leased workers of Forge Industrial Staffing, Grand Rapids, Michigan. The notice was published in the Federal Register on September 21, 2006 (71 FR 55216).

At the request of a company official, the Department reviewed the certification for workers of the subject firm. The workers were engaged in the production of automotive door handle assemblies, grills and emblems until the company closed in August 2006.

New information shows that MacDonald's Industrial Products contracted with Access Personnel Options to provide payroll and benefit services for workers at the Spencerville, Ohio, Kentwood, Michigan, and Grand Rapids, Michigan locations of the subject firm. Workers separated from employment at these locations of the subject firm had their wages reported under a separate unemployment insurance (UI) tax account for Access Personnel Options.

Accordingly, the Department is amending the certification to properly reflect this matter.

The intent of the Department's certification is to include all workers of MacDonald's Industrial Products who were adversely affected by a shift in production to Canada.

The amended notice applicable to TA-W-59,883, TA-W-59,883A and TA-W-59,883B are hereby issued as follows:

“All workers of MacDonald's Industrial Products, including on-site leased workers of Spherion Corporation, including workers whose wages were paid by Access Personnel Options, Spencerville, Ohio (TA-W-59,883), MacDonald's Industrial Products, including on-site leased workers of Forge Industrial Staffing, including workers whose wages were paid by Access Personnel Options, Kentwood, Michigan (TA-W-59,883A), and MacDonald's Industrial Products, including on-site leased workers of Forge Industrial Staffing, including workers whose wages were paid by Access Personnel Options, Grand Rapids, Michigan (TA-W-59,883B), who became totally or partially separated from employment on or after August 8, 2005, through August 31, 2008, are eligible to apply for adjustment assistance under Section 223 of the Trade Act of 1974.”

Signed at Washington, DC, this 17th day of July 2007.
Elliott S. Kushner,
Certifying Officer, Division of Trade Adjustment Assistance.

[FR Doc. E7-14220 Filed 7-23-07; 8:45 am]

BILLING CODE 4510-FN-P